INTERNATIONAL TRADE COMMISSION

[Investigation No. 337-TA-1419]

Certain Exercise Equipment and Subassemblies Thereof; Notice of Issuance of a General Exclusion Order and a Limited Exclusion Order; Termination of the Investigation

AGENCY: U.S. International Trade Commission.

ACTION: Notice.

SUMMARY: Notice is hereby given that the U.S. International Trade Commission (“Commission”) has determined to issue (1) a general exclusion order (“GEO”) prohibiting the importation of products that infringe claim 1 of U.S. Patent No. 8,721,511 (“the '511 patent”) or the claim of U.S. Patent No. D659,208 (“the D'208 patent”); and (2) a limited exclusion order (“LEO”) prohibiting entry of products that infringe claim 19 of the '511 patent or the claim of U.S. Patent No. D659,205 (“the D'205 patent”) that are imported by or on behalf of certain defaulting respondents. The investigation is terminated.

FOR FURTHER INFORMATION CONTACT: Namo Kim, Esq., Office of the General Counsel, U.S. International Trade Commission, 500 E Street SW, Washington, DC 20436, telephone (202) 205-3459. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on September 27, 2024, based upon a complaint filed on behalf of Balanced Body, Inc. of Sacramento, California (“Complainant”). 89 FR 79306-07 (Sept. 27, 2024). The complaint, as supplemented, alleged violations of section 337 of the Tariff Act of 1930, as amended, 19 U.S.C. 1337 (“section 337”), based upon the importation into the United States, the sale for importation, and the sale within the United States after importation of certain exercise equipment and subassemblies thereof by reason of infringement of one or more of claims 1-15, 19-21, and 23-26 of the '511 patent; the claim of the D'205 patent; and the claim of the D'208 patent (collectively, the “asserted patents”). Id. The complaint further alleged that a domestic industry exists. Id. at 79306. The Commission's notice of investigation named as respondents: Guangzhou Oasis, LLC d/b/a trysauna.com of Boulder, Colorado (“Trysauna”); Ciga Pilates of Hong Kong; Shandong Tmax Machinery Technology Co. Ltd. of Dezhou City, China (“Tmax”); Shandong VOG Sports Products Co. Ltd. of Dezhou City, China (“VOG Sports”); Dezhou Bodi Fitness Equipment Co., Ltd. of Dezhou City, China (“Dezhou”); and Suzhou Selfcipline Sports Goods Co., Ltd. of Suzhou, China (“Selfcipline”). Id. at 79307. The Office of Unfair Import Investigations (“OUII”) is also a party to this investigation. Id.

On March 10, 2025, the Commission terminated the investigation as to respondent Ciga Pilates based on withdrawal of the complaint. Order No. 9 (Feb. 11, 2025), unreviewed by Comm'n Notice (Mar. 10, 2025).

On April 9, 2025, the Commission found the remaining respondents Trysauna, Tmax, VOG Sports, Dezhou, and Selfcipline (collectively, “Defaulting Respondents”) in default. Order No. 11 (Mar. 10, 2025), unreviewed by Comm'n Notice (Apr. 9, 2025).

On April 16, 2025, the Commission terminated the investigation as to claims 2-15, 20-21, and 23-26 of the '511 patent. Order No. 13 (Mar. 24, 2025), unreviewed by Comm'n Notice (Apr. 16, 2025).

On April 30, 2025, the ALJ issued an initial determination (Order No. 15) (“ID”) granting-in-part and deferring-in-part Complainant's motion for summary determination of violation of section 337. Specifically, the ID found a violation by each of VOG Sports, Dezhou, and Selfcipline with respect to imported products infringing claim 1 of the '511 patent and the claim of the D'208 patent. The ID also found that the domestic industry requirement is satisfied.

On May 9, 2025, Complainant filed a notice of withdrawal of its request for a GEO as to the claims on which the ALJ deferred summary determination in the ID. See Complainant's Notice of Withdrawal of Its Request for a General Exclusion Order as to Certain Patent Claims and Renewed Request for Recommended Determination on Remedy and Bond at 1.

On May 12, 2025, the ALJ issued an order (Order No. 16) stating that Complainant's notice of withdrawal resolved all issues pending before the ALJ and the investigation is now in the “remedy phase.” Order No. 16 and the summary determination ID (Order No. 15) included a Recommended Determination (“RD”) recommending that a GEO should issue as to claim 1 of the '511 patent and the claim of the D'208 patent, and that a one hundred percent (100%) bond be set.

On May 14, 2025, the Commission issued its post-RD notice seeking submissions on public interest issues raised by the relief recommended by the ALJ should the Commission find a violation. 90 FR 21509-10 (May 20, 2025). No responses were filed from the public. On June 2, 2025, Complainant filed a statement on the public interest pursuant to Commission Rule 210.50(a)(4), 19 CFR 210.50(a)(4).

On May 30, 2025, the Commission issued a notice determining not to review the ALJ's summary determination ID (Order No. 15), and requesting the parties to the investigation, interested government agencies, and any other interested parties to file written submissions on the issues of remedy, the public interest, and bonding. 90 FR 23952-54 (June 5, 2025).

On June 13, 2025, Complainant and OUII filed written submissions on remedy, the public interest, and bonding. On June 20, 2025, OUII filed a reply to Complainant's written submission. No other submissions were filed.

Having reviewed the record of the investigation, including the RD and the parties' submissions, the Commission has determined that the appropriate remedy is (1) a GEO as to claim 1 of the '511 patent and the claim of the D'208 patent; and (2) an LEO prohibiting entry of products that infringe (i) claim 19 of the '511 patent as to respondents VOG Sports, Dezhou, Selfcipline, and Tmax or (ii) the claim of the D'205 patent as to respondents Trysauna, VOG Sports, Dezhou, Selfcipline, and Tmax.

The Commission has further determined that the public interest factors enumerated in subsections (d) and (g) (19 U.S.C. 1337(d), (g)) do not preclude issuance of the above referenced remedial orders. Additionally, the Commission has determined to impose a bond of one hundred percent (100%) of entered value of the covered products during the period of Presidential review. 19 U.S.C. 1337(j). The investigation is terminated.

The Commission vote for this determination took place on August 11, 2025.

The authority for the Commission's determination is contained in section 337 of the Tariff Act of 1930, as amended (19 U.S.C. 1337), and in Part 210 of the Commission's Rules of Practice and Procedure (19 CFR part 210).

By order of the Commission.
Issued: August 11, 2025.
Lisa Barton,
Secretary to the Commission.

[FR Doc. 2025-15429 Filed 8-13-25; 8:45 am]

BILLING CODE 7020-02-P